DEPARTMENT OF HEALTH AND HUMAN SERVICES

Agency for Healthcare Research and Quality

Solicitation for Nominations for New Clinical Preventive Health Topics To Be Considered for Review by the United States Preventive Services Task Force

AGENCY: Agency for Healthcare Research and Quality (AHRQ), DHHS.

ACTION: Solicit for new topic nominations.

SUMMARY: The Agency for Healthcare Research and Quality (AHRQ) invites individuals and organizations to nominate primary and secondary prevention topics pertaining to clinical preventive services that they would like the United States Preventive Services Task Force (USPSTF) to consider for review. All topics previously reviewed by the USPSTF are available on AHRQ's Web site, http://www.preventiveservices.AHRQ.gov.

The USPSTF is an independent panel of experts that makes evidence-based recommendations regarding the provision of clinical preventive services. Clinical preventive services include screening, counseling and preventive medications associated with primary care. The USPSTF makes recommendations about preventive services for asymptomatic people—people without recognized signs or symptoms of the specific condition targeted by the preventive service.

Topics can be nominated by individuals, organizations, evidence-based practice centers (EPC) and USPSTF members. The USPSTF will consider topic nominations in two steps. The USPSTF will first determine if the topic relates to a service is eligible, i.e., constitutes primary or secondary prevention applicable to healthy asymptomatic persons; is primary care-feasible or referable from primary care; and addresses a condition with a substantial health burden. As a second step, within eligible topics, the USPSTF will prioritize based on the following set of criteria: Public health importance (burden of suffering, potential of preventive service to reduce the burden); and potential for greatest Task Force impact (e.g., clinical controversy, practice does not reflect evidence, inappropriate timing in delivery of services).

Basic Topic Nomination Requirements

Nominations must be no more than 500 words in length and must include the information listed below. Nominations may include supporting documentation; reference lists and other supporting documents are not counted against the 500 word limit, but should not exceed ten pages.

Required Information

1. Name of topic.

2. Rationale for consideration by the USPSTF, describing:

a. Characterization as primary or secondary prevention topic (screening, counseling or preventive medication).

b. Primary care relevance (applicable clinical preventive service must be provided by a primary care provider and or initiated in the primary care setting which can be defined as family practice, internal medicine, pediatrics or obstetrics/gynecology).

c. Public health importance (burden of disease/suffering, potential of preventive service to reduce burden, including effective interventions). Citations and supporting documents are recommended.

d. Potential impact of USPSTF's review of the topic, i.e., change in clinical practice, research focus, etc.

DATES: Topic nominations should be submitted by August 27, 2010 in order to be considered for 2010-2012. AHRQ will not reply to submissions in response to the request for nominations, but will consider all topic nominations during the selection process. If a topic is selected for review by the USPSTF, the nominator will be notified by AHRQ.

ADDRESSES: Please submit nominations to: Gloria Washington, ATTN: USPSTF Topic Nominations, Center for Primary Care, Prevention & Clinical Partnerships, Agency for Healthcare Research and Quality 540 Gaither Road, Room 6117, Rockville, MD 20850. Fax: 301-427-1595. E-mail: qloria.washinqton@AHRQ.hhs.gov.

FOR FURTHER INFORMATION CONTACT: Robert Cosby at robert.cosby@AHRQ.hhs.qov or Gloria Washington at qloria.washington@AHRQ.hhs.gov.

Arrangement for Public Inspection: All nominations will be available for public inspections by appointment at the Center for Primary Care, Prevention & Clinical Partnerships, 301-427-1500, weekdays between 10 a.m. and 5 p.m. (Eastern time).

SUPPLEMENTARY INFORMATION:

Background

Under Title IX of the Public Health Service Act, AHRQ is charged with enhancing the quality, appropriateness and effectiveness of health care services and access to such services. AHRQ accomplishes these goals through scientific research and promotion of improvements in clinical practice, including prevention of diseases and other health conditions. 42 U.S.C. 299(b).

The United States Preventive Services Task Force (USPSTF) is an independent expert panel, first established in 1984 under the auspices of the U.S. Public Health Service. Under AHRQ's authorizing legislation, see 42 U.S.C. 299b-4(a)(1), the Director of AHRQ is responsible for convening the USPSTF, which is to be composed of individuals with appropriate expertise. The mission of the Task Force is to review the scientific evidence related to the effectiveness, and appropriateness of clinical preventive services for the purpose of developing recommendations for the health care community. Current Task Force recommendations and associated evidence reviews are available at http://www.preventiveservices.AHRQ.gov.

Topic Nomination Solicitation

The purpose of this solicitation for new topics by AHRQ and the USPSTF is to create a balanced portfolio of relevant topics for the current Task Force library. Balance in the library is sought on the basis of populations, types of services (screening, counseling, preventive medications) and disease types (cancer; heart and vascular disease; injury and violence-related disorders; infectious diseases; mental disorders and substance abuse; metabolic, nutritional and endocrine diseases; musculoskeletal conditions; obstetric and gynecological conditions; pediatric disorders; and, vision and hearing disorders). Selection of suggested topics will be made on the basis of the qualifications of nominations as outlined above (see basic topic nomination requirements).

Dated: July 26, 2010.
Carolyn M. Clancy,
Director.

[FR Doc. 2010-19117 Filed 8-4-10; 8:45 am]

BILLING CODE 4160-90-M